DEPARTMENT OF TRANSPORTATION

National Highway Traffic Safety Administration

[U.S. DOT Docket No. NHTSA-2012-0169]

Reports, Forms, and Recordkeeping Requirements: Agency Information Collection Activity Under OMB Review

AGENCY: National Highway Traffic Safety Administration (NHTSA), DOT.

ACTION: Request for public comment on proposed collection of information.

SUMMARY: Before a Federal agency can collect certain information from the public, it must receive approval from the Office of Management and Budget (OMB). Under procedures established by the Paperwork Reduction Act of 1995, before seeking OMB approval, Federal agencies must solicit public comment on proposed collections of information, including extensions and reinstatements of previously approved collections. This document describes one collection of information for which NHTSA intends to seek OMB approval.

DATES: Comments must be received on or before February 11, 2013.

ADDRESSES: Refer to the docket notice number cited at the beginning of this notice and send your comments by any of the following methods:

Federal eRulemaking Portal: Go to http://www.regulations.gov. Follow the instructions for submitting comments.

Fax: 202-493-2251.

Mail: U.S. Department of Transportation, Docket Operations, M-30, West Building Ground Floor, Room W12-140, 1200 New Jersey Ave. SE., Washington, DC 20590.

Hand Delivery: U.S. Department of Transportation, Docket Operations, M-30, West Building Ground Floor, Room W12-140, 1200 New Jersey Ave. SE., Washington, DC 20590, between 9 a.m. and 5 p.m., Monday through Friday, except Federal holidays.

FOR FURTHER INFORMATION CONTACT: Jonathan Walker, contract task order manager, Office of Regulatory Analysis and Evaluation, National Highway Traffic Safety Administration, 1200 New Jersey Ave. SE., NVS-432, Washington, DC 20590. Mr. Walker's phone number is 202-366-8571 and his email address is jonathan.walker@dot.gov.

SUPPLEMENTARY INFORMATION: Under the Paperwork Reduction Act of 1995, before an agency submits a proposed collection of information to OMB for approval, it must publish a document in the Federal Register providing a 60-day comment period and otherwise consult with members of the public and affected agencies concerning each proposed collection of information. The OMB has promulgated regulations describing what must be included in such a document. Under OMB's regulations (at 5 CFR 1320.8(d)), an agency must ask for public comment on the following: (i) Whether the proposed collection of information is necessary for the proper performance of the functions of the agency, including whether the information will have practical utility; (ii) The accuracy of the agency's estimate of the burden of the proposed collection of information, including the validity of the methodology and assumptions used; (iii) How to enhance the quality, utility, and clarity of the information to be collected; and (iv) How to minimize the burden of the collection of information on those who are to respond, including the use of appropriate automated, electronic, mechanical, or other technological collection techniques or other forms of information technology, e.g., permitting electronic submissions of responses. In compliance with these requirements, NHTSA asks public comment on the following proposed collection of information:

Title: Tire Pressure Monitoring Systems Special Studies.

Type of Request: Renewal.

OMB Clearance Number: 2127-0626.

Form Number: This collection of information uses no standard forms.

Required Expiration Date of Approval: June 30, 2016.

Abstract

The National Highway Traffic Safety Administration (NHTSA) is an agency within the U.S. Department of Transportation. NHTSA has issued Corporate Average Fuel Economy (CAFE) standards for light vehicles since 1978 under the statutory authority of the Energy Policy and Conservation Act (EPCA). The Energy Independence and Security Act (EISA), enacted on December 19, 2007, amended EPCA and mandated that NHTSA, in consultation with EPA, set fuel economy standards for medium and heavy-duty (MD/HD) on-highway vehicles and work trucks to the maximum feasible level in each model year, providing four full model years of regulatory lead-time. 49 U.S.C. 32902 requires the agency to implement test methods, measurement metrics, fuel economy standards, and compliance and enforcement protocols that are appropriate, cost-effective, and technologically feasible for the various vehicle classes.

The first MD/HD fuel consumption standards, covering model year 2014-2018 vehicles, built on many years of engine and vehicle technology development to achieve what the agency believes is the greatest degree of fuel consumption reduction consistent with principles of technological and economic feasibility. In addition to taking aggressive steps that are reasonably possible now, the agency is committed to continue learning about this complex sector to further reduce fuel consumption through future regulatory steps. This special study is aligned with this commitment, by improving NHTSA's understanding of three operational characteristics related to MD/HD trucks that impact the estimation of regulatory costs and benefits for the next phase of MD/HD fuel economy rulemaking covering model years 2019 and beyond.

The first topic for which this special study seeks to gather data is known as the “fuel economy rebound effect.” As the operating cost per mile driven decreases due to improved vehicle fuel economy, a “rebound effect” may occur (i.e., demand for trucking operations may increase, resulting in increased vehicle miles traveled (VMT) across MD/HD fleets). The magnitude of this effect is a subject of uncertainty; therefore, a survey to gather data on the relationship between VMT and operating cost per mile will help to refine estimates of the rebound effect.

This special study also seeks to gather data to profile the characteristics of MD/HD vehicle refueling trips, in effort to estimate the value of time saved at the pump due to improvements in fuel economy. With the 2017-2025 MY light-duty vehicle CAFE rule, NHTSA utilized survey data gathered at refueling stations to quantify this regulatory impact; however, no analogous data exist for MD/HD vehicles.

NHTSA also seeks to estimate the value of time savings that may result from the implementation of active tire pressure monitoring systems in MD/HD vehicles, as these systems are among the fuel-economy-improving technologies under evaluation for future standards. To properly estimate this value, data are needed on the frequency with which maintenance staff or vehicle operators check tire pressures and how many minutes a tire pressure check and adjustment takes.

Description of the Likely Respondents (Including Estimated Number, and Proposed Frequency of Response to the Collection of Information): A list of MD/HD truck fleet operators will be developed and a sub-set of these operators will be contacted for initial pre-screening to determine survey eligibility. To be deemed eligible for inclusion, fleet operators must operate MD/HD fleets consisting of one or more vehicle classes ranging from class 2b through class 8. The sample will include sufficient diversity to gather data on all class 2b through class 8 MD/HD vehicles. Respondents will include management or other administrative staff with knowledge of macro-level fleet data and operational policies.

100 or more responding sample units are sought. To achieve this target, it is estimated that the initial sample be comprised of 200 MD/HD truck fleet operators, allowing for a response rate minimum of 50 percent. The universe under study includes the entirety of MD/HD truck fleet operators.

Separately, a list of between 20 and 30 refueling locations will be developed, identifying those areas at which to survey MD/HD truck drivers to gather additional data regarding refueling and tire pressure maintenance activities. Collection of up to 4,000 successful responses is desired, from a universe comprised of all Class 2b through Class 8 truck drivers, and sufficient overall sample diversity must be present to gather data on all MD/HD classes. Allowing for a 50 percent response rate, up to 8,000 interview attempts may be required.

There will be separate survey instruments for fleet operators and for vehicle drivers. These survey instruments will target fleet operators or vehicle drivers as appropriate with questions intended to gather data on the following topics:

(1) Data to facilitate analysis of MD/HD truck fuel economy rebound effect.

(2) Data to facilitate analysis of MD/HD truck refueling practices.

(3) Data regarding the maintenance of cab and trailer tire pressures.

The survey of vehicle drivers will utilize in-person interviews as the sole method of data collection. The survey of fleet operators will involve telephone interviews, web-based forms, and—if necessary to meet response rate objectives—hard copy forms.

Estimate of the Total Annual Reporting and Recordkeeping Burden Resulting From the Collection of Information: NHTSA estimates that the average length of time to complete the fleet operator survey will be 30 minutes per respondent for a successful response (equivalent to a total of 100 hours in the event that the full sample responds), plus an additional 10 minutes each (or a total of approximately 33 hours) for the initial pre-screening to determine respondent eligibility. Consequently, the total fleet operator respondent burden is estimated to be 133 hours.

The on-site interview-based portion of this survey, to be conducted of MD/HD truck drivers at refueling locations, is expected to require 10 minutes of respondent time per successful response, plus 2 minutes per refusal. Assuming 4,000 successful collections and 4,000 refusals, this equates to 800 hours of respondent burden borne by MD/HD truck drivers.

Authority: 44 U.S.C. Section 3506(c)(2)(A).

James F. Simons,
Director, Office of Regulatory Analysis and Evaluation.

[FR Doc. 2012-29844 Filed 12-10-12; 8:45 am]

BILLING CODE 4910-59-P